DEPARTMENT OF ENERGY

Federal Energy Regulatory Commission

[Project No. 2544-051]

Hydro Technology System, Inc.; Notice of Soliciting Scoping Comments

Take notice that the following hydroelectric application has been filed with the Commission and is available for public inspection.

a. Type of Application: New Minor License.

b. Project No.: 2544-051.

c. Date filed: December 27, 2021.

d. Applicant: Hydro Technology System, Inc.

e. Name of Project: Meyers Falls Project.

f. Location: On the Colville River, Stevens County, Washington. The project does not occupy federal land.

g. Filed Pursuant to: Federal Power Act, 16 U.S.C. 791 (a)-825(r).

h. Applicant Contact: Ben Hendrickson, Hydro Technology System, Inc., PO Box 245, Kettle Falls, WA 99141; (509) 993-7629 or email at hydrotechnologysystems@gmail.com.

i. FERC Contact: Maryam Zavareh at (202) 502-8474, or email at maryam.zavareh@ferc.gov.

j. Deadline for filing scoping comments: November 11, 2022.

The Commission strongly encourages electronic filing. Please file scoping comments using the Commission's eFiling system at http://www.ferc.gov/docs-filing/efiling.asp. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Meyers Falls Hydroelectric Project (P-2544-051).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The project consists of the following existing facilities: (1) a 10-acre reservoir; (2) a 24.5-foot-high, 306-foot-long, concrete and earth-fill embankment dam;(3) a 100-foot-long concrete spillway section containing five 20 feet 3.5 inch wide, 6 feet high bulkheads; (3) a 46-foot-wide, 20-foot-deep, 360-foot-long intake channel with a 19-foot-wide and 11-foot-deep trashrack at the entrance point; (4) a 4-foot- diameter, 323-foot-long steel penstock conveying flow from intake to powerhouse; (5) a 31.5-foot-wide, 55.5-foot-long, 15.5-foot-high steel reinforced concrete powerhouse containing two generating units with a total installed capacity of 1.2 megawatts; (7) a 4,600-foot-long, 13.8-kilovolt transmission line; and (8) appurtenant facilities. The Meyers Falls Project is operated in a run-of-river mode with an average annual generation of 7,883 megawatt-hours per year.

Hydro Technology Systems Inc proposes to continue to operate the project in a run-of-river mode.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process: Commission staff will prepare either an environmental assessment (EA) or an Environmental Impact Statement (EIS) that describes and evaluates the probable effects of the licensee's proposed action and alternatives. The EA or EIS will consider both site-specific and cumulative environmental impacts and reasonable alternatives to the proposed action. The Commission's scoping process will help determine the required level of analysis and satisfy the National Environmental Policy Act (NEPA) scoping requirements, irrespective of whether the Commission prepares an EA or an EIS.

At this time, we do not anticipate holding on-site scoping meetings. Instead, we are soliciting written comments and suggestions on the preliminary list of issues and alternatives to be addressed in the NEPA document, as described in scoping document 1 (SD1), issued October 12, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: October 12, 2022.
Kimberly D. Bose,
Secretary.

[FR Doc. 2022-22599 Filed 10-17-22; 8:45 am]

BILLING CODE 6717-01-P